NUCLEAR REGULATORY COMMISSION

Advisory Committee on Nuclear Waste and Materials; Meeting Notice

The Advisory Committee on Nuclear Waste and Materials (ACNW&M) will hold its 182nd meeting on September 18-20, 2007, Room T-2B3, 11545 Rockville Pike, Rockville, Maryland.

Tuesday, September 18, 2007

10 a.m.-10:05 a.m.: Opening Remarks by the ACNW&M Chairman (Open)—The Chairman will make opening remarks regarding the conduct of today's sessions.

10:05 a.m.-10:30 a.m.: Corrosion of Waste Package and Drip Shield Materials in a Repository Environment (Open)—An NRC staff representative from the Division of High-Level Waste and Repository Safety (DHLWRS) will brief the Committee on the staff's current understanding of key processes and associated uncertainties for estimating the long-term performance of waste package and drip shield materials under potential repository conditions.

10:30 a.m.-11 a.m.: Mechanisms for Estimating Juvenile Waste Package Failures (Open)—Representatives from the Center for Nuclear Waste Regulatory Analyses and from DHLWRS will update the Committee on the staff's current understanding of key processes and associated uncertainties that may contribute to juvenile failure of waste packages under potential repository conditions.

11 a.m.-11:30 a.m.: Dissolution Processes for Commercial Spent Nuclear Fuels in a Repository Environment (Open)—DHLWRS staff representatives will brief the Committee on the staff's current understanding of key processes and associated uncertainties for the dissolution of commercial spent nuclear fuels under potential repository conditions.

11:30 a.m.-12 p.m.: Discussion of the NRC Role in the International Committee on Radiological Protection (ICRP) (Open)—An NRC staff representative from the Office of Federal and State Materials and Environmental Management Programs (FSME) will brief the Committee on NRC's participation in recent activities of the ICRP.

1 p.m.-2 p.m.: Nuclear Energy Institute (NEI) Briefing on Low-Level Radioactive Waste (LLW) Minimization Strategies (Open)—An NEI representative will brief the Committee on what nuclear power plants are doing to reduce the volume of Class B/C commercial LLW being generated.

2 p.m.-3 p.m.: NEI Executive Committee Views on Commercial LLW Management Issues (Open)—An NEI representative will brief the Committee on activities of a recently-formed NEI executive-level committee examining issues related to the generation, management, and disposal of commercial LLW.

3:15 p.m.-4 p.m.: Observations from ACNW Members and Staff on Recent Activities (Open)—The ACNW members and staff will present summaries of their: Visit to decommissioning sites in Pennsylvania (TMI plant) and Missouri (Hematite site); visit to the U.S. Department of Energy (DOE) Grand Junction site in Colorado; and attendance at the First Annual Radwaste Summit.

4 p.m.-5 p.m.: Discussion of ACNW&M Letter Reports (Open)—The Committee will discuss potential and proposed ACNW&M letter reports.

Wednesday, September 19, 2007

8:30 a.m.-8:35 a.m.: Opening Remarks by the ACNW&M Chairman (Open)—The Chairman will make opening remarks regarding the conduct of today's sessions.

8:35 a.m.-9:30 a.m.: Regulatory Guide Revisions (Open)—An NRC staff representative from the Office of Nuclear Regulatory Research will brief the Committee on the efforts to revise NRC's Regulatory Guides related to the licensing of nuclear facilities.

9:30 a.m.-12:30 p.m.: Preparation for Meeting with NRC Commissioners (Open)—The Committee will discuss topics and work on the slides in preparation for the ACNW&M briefing to the NRC Commissioners, scheduled for Wednesday, November 14, 2007.

1:30 p.m.-5 p.m.: Discussion of ACNW&M Letter Reports (Open)—The Committee will continue discussion of potential and proposed ACNW&M letter reports.

Thursday, September 20, 2007

8:30 a.m.-8:35 a.m.: Opening Remarks by the ACNW&M Chairman (Open)—The Chairman will make opening remarks regarding the conduct of today's sessions.

8:35 a.m.-12:30 p.m.: Discussion of ACNW&M Letter Reports (Open)—The Committee will continue discussion of potential and proposed ACNW&M letter reports.

1:30 p.m.-3 p.m.: Semiannual Briefing by the Office of Federal and State Materials and Environmental Management Programs (FSME) (Open)—The FSME Office and the Division Directors will brief the Committee on recent and future activities of interest within their respective programs.

3 p.m.-5 p.m.: Miscellaneous (Open)—The Committee will discuss matters related to the conduct of ACNW&M activities and specific issues that were not completed during previous meetings, as time and availability of information permit. Discussions may include content of future letters and scope of future Committee Meetings.

Procedures for the conduct of and participation in ACNW&M meetings were published in the Federal Register on October 12, 2006 (71 FR 60196). In accordance with those procedures, oral or written views may be presented by members of the public. Electronic recordings will be permitted only during those portions of the meeting that are open to the public. Persons desiring to make oral statements should notify Dr. Antonio F. Dias (Telephone 301-415-6805), between 8:15 a.m. and 5 p.m. ET, as far in advance as practicable so that appropriate arrangements can be made to schedule the necessary time during the meeting for such statements. Use of still, motion picture, and television cameras during the meeting may be limited to selected portions of the meeting as determined by the ACNW&M Chairman. Information regarding the time to be set aside for taking pictures may be obtained by contacting the ACNW&M office prior to the meeting. In view of the possibility that the schedule for ACNW&M meetings may be adjusted by the Chairman as necessary to facilitate the conduct of the meeting, persons planning to attend should notify Dr. Dias as to their particular needs.

Further information regarding topics to be discussed, whether the meeting has been canceled or rescheduled, as well as the Chairman's ruling on requests for the opportunity to present oral statements and the time allotted therefor can be obtained by contacting Dr. Dias.

ACNW meeting agenda, meeting transcripts, and letter reports are available through the NRC Public Document Room at pdr@nrc.gov, or by calling the PDR at 1-800-397-4209, or from the Publicly Available Records System (PARS) component of NRC's document system (ADAMS) which is accessible from the NRC Web site at http://www.nrc.gov/reading-rm/adams.html or http://www.nrc.gov/reading-rm/doc-collections/ (ACRS & ACNW Mtg schedules/agendas).

Video teleconferencing service is available for observing open sessions of ACNW&M meetings. Those wishing to use this service for observing ACNW&M meetings should contact Mr. Theron Brown, ACRS/ACNW&M Audio Visual Technician (301-415-8066), between 7:30 a.m. and 3:45 p.m., (ET), at least 10 days before the meeting to ensure the availability of this service. Individuals or organizations requesting this service will be responsible for telephone line charges and for providing the equipment and facilities that they use to establish the video teleconferencing link. The availability of video teleconferencing services is not guaranteed.

Dated: August 24, 2007.
Andrew L. Bates,
Advisory Committee Management Officer.

[FR Doc. E7-17173 Filed 8-29-07; 8:45 am]

BILLING CODE 7590-01-P